DEPARTMENT OF HEALTH AND HUMAN SERVICES

Centers for Disease Control and Prevention

[30Day-11-11BJ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

CDC Diabetes Prevention Recognition Program (DPRP)—New—Division of Diabetes Translation, National Center for Chronic Disease Prevention and Health Promotion (NCCDPHP), Centers for Disease Control and Prevention (CDC).

Background and Brief Description

The Centers for Disease Control and Prevention (CDC) is establishing the CDC Diabetes Prevention Recognition Program (DPRP) as authorized by Section 399-V of Public Law 111-148, the Patient Protection and Affordable Care Act. The DPRP will provide a mechanism for recognizing organizations that deliver effective, community-based type 2 diabetes prevention programs according to written program standards.

CDC will collect information to monitor, evaluate, and provide technical assistance to organizations that apply for recognition through the DPRP. Applicant organizations may be public- or private-sector entities. Information collection will include a one-time, on-line application form to verify the organization's eligibility. Thereafter, each applicant organization will submit de-identified program evaluation (process and outcome) data to CDC every six months. Information will be collected electronically. CDC will use the information to monitor program fidelity to a CDC-approved diabetes prevention curriculum, to evaluate its effectiveness and to provide targeted technical assistance to applicant organizations. Contact information for organizations that fully meet DPRP standards will be made available on the DPRP Web site.

OMB approval is requested for three years. CDC anticipates seeking continued OMB approval throughout the lifetime of the DPRP. Participation in the DPRP is voluntary, and there are no costs to organizations other than their time. The total estimated annualized burden hours are 600.

Estimated Annualized Burden Hours
Type of respondent | Form name | Number of respondents | Number of responses per respondent | Avg. burden per response (in hrs)
Organizations that deliver type 2 diabetes prevention programs | DPRP Application Form | 120 | 1 | 1
| DPRP Evaluation Data | 240 | 2 | 1

Dated: August 31, 2011.
Daniel Holcomb,
Reports Clearance Officer, Centers for Disease Control and Prevention.

[FR Doc. 2011-22789 Filed 9-8-11; 8:45 am]

BILLING CODE 4163-18-P